DEPARTMENT OF COMMERCE

International Trade Administration

University of Colorado, et al., Notice of Consolidated Decision on Applications for Duty-Free Entry of Scientific Instruments

This is a decision pursuant to Section 6(c) of the Educational, Scientific, and Cultural Materials Importation Act of 1966 (Pub. L. 89-651, as amended by Pub. L.106-36; 80 Stat. 897; 15 CFR part 301). Related records can be viewed between 8:30 A.M. and 5:00 P.M. in Room 2104, U.S. Department of Commerce, 14th and Constitution Ave, NW, Washington, D.C.

Comments: None received. Decision: Approved. We know of no instruments of equivalent scientific value to the foreign instruments described below, for such purposes as each is intended to be used, that was being manufactured in the United States at the time of its order.

Docket Number: 08-016. Applicant: University of Colorado, Boulder, CO 80309. Instrument: Three-Channel Digital Radio Vector Field Sensor (RVFS). Manufacturer: Swedish Institute of Space Physics, Sweden. Intended Use: See notice at 73 FR 30377, May 27, 2008. Reasons: The instrument has a capability to work with dipole antennas of two different lengths (1 m and 3 m) and a capability to oversample the output I&Q data. These specifications enable the instrument to operate in both mobile-mount and stationary conditions which is essential to the intended use.

Docket Number: 08-017. Applicant: City College of the City University of New York, New York, NY 10031. Instrument: Ultrabroadband Ti:Sapphire Laser Model Rainbow-DFG. Manufacturer: Femtolasers, Inc., Austria. Intended Use: See notice at 73 FR 30377, May 27, 2008. Reasons: The instrument can generate optical pulses of less than 7 femtoseconds which is fundamental to the intended use. The amplifier system will be coupled with a 6 femtosecond laser and streak camera system to provide high spatial, high temporal and high spectral resolution for characterization, tunneling and carrier/phonon dynamics studies for nanoscale semiconductor quantum structures and devices.

Dated: July 1, 2008.
Faye Robinson,
Director, Statutory Import Programs Staff, Import Administration.

[FR Doc. E8-15450 Filed 7-7-08; 8:45 am]

BILLING CODE 3510-DS-P